DEPARTMENT OF DEFENSE

Department of the Navy

Notice of Availability of Report

AGENCY: Department of the Navy, DOD.

ACTION: Notice.

SUMMARY: The Ocean Research Advisory Panel (ORAP) report, “Strategic Vision for Achieving Sustainable Marine Resources Within the US EEZ,” is available for public inspection.

DATES: Summary comments are desired by Tuesday, January 16, 2001, however the report will continue to be available for public review until June 30, 2001.

ADDRESSES: The report is available for review at and comments should be submitted to the National Oceanographic Partnership Program (NOPP) Program Office, 1755 Massachusetts Avenue, NW, Suite 800, Washington, DC 20036. See Supplementary Information section for electronic access and filing addresses.

FOR FURTHER INFORMATION CONTACT: Dr. Steven E. Ramberg, Office of Naval Research, 800 North Quincy Street, Arlington, VA 22217-5660, telephone number (703) 696-4358.

SUPPLEMENTARY INFORMATION: This report was prepared in response to request by the National Ocean Research Leadership Council to prepare a strategic vision for a U.S. research program to study marine biological resources within the 200-nautical mile U.S. exclusive economic zone (EEZ) together with the means to make these resources economically and ecologically sustainable by 2010. The report is available for review on the NOPP website at http://www.nopp.org. Comments on the report may be submitted by electronic mail (e-mail) to nopp@brook.edu. This notice of report availability is provided in accordance with the Federal Advisory Committee Act (5 U.S.C. App. 2).

Dated: January 5, 2001.
J. L. Roth,
Lieutenant Commander, Judge Advocate General's Corps, U.S. Navy, Federal Register Liaison Officer.

[FR Doc. 01-1621 Filed 1-19-01; 8:45 am]

BILLING CODE 3810-FF-U